DEPARTMENT OF HEALTH AND HUMAN SERVICES

Centers for Disease Control and Prevention

[60Day-03-119]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Youth Media Campaign Awareness and Reaction Tracking, (OMB No. 0920-0582)—Extension—National Center for Chronic Disease Prevention and Health Promotion (NCCDPHP), Centers for Disease Control and Prevention (CDC).

In FY 2001, Congress established the Youth Media Campaign at the Centers for Disease Control and Prevention (CDC). Specifically, the House Appropriations Language said: The Committee believes that, if we are to have a positive impact on the future health of the American population, we must change the behaviors of our children and young adults by reaching them with important health messages. CDC, working in collaboration with federal partners, is coordinating an effort to plan, implement, and evaluate a campaign designed to clearly communicate messages that will help kids develop habits that foster good health over a lifetime. The campaign is based on principles that have been shown to enhance success, including: designing messages based on research; testing messages with the intended audiences; involving young people in all aspects of campaign planning and implementation; enlisting the involvement and support of parents and other influencers; tracking the campaign's effectiveness and revising Campaign messages and strategies as needed.

In accordance with the original OMB approval (OMB NO.: 0920-0582; March 10, 2003), this extension will continue to expand and enhance the ongoing monitoring of the campaign's penetration with the target audience. For the campaign to be successful, campaign planners must have mechanisms to determine the targets' awareness of, and reaction to, the campaign brand and messages as the campaign evolves. Campaign planners also need to identify which messages are likely to have the greatest impact on attitudes and desired behaviors.

The awareness and reaction tracking study (YMC Tracking Survey) has facilitated campaign planners' ability to continually assess and improve the effectiveness of the targeted communication and other marketing variables throughout the evolution of the campaign. It enables staff to determine which media channels are most-effective to optimize communication variables such as weight levels, frequency and reach components, programming formats, etc. that will have the greatest effect upon communicating the desired message to the target audiences. Implementation of the survey has provided for efficient collection of campaign awareness and understanding levels on a continual basis.

The campaign uses a tracking methodology at specific time points using age-targeted samples. Tracking methods may include, but are not limited to telephone surveys, telephone or in-person focus groups, web-based surveys, or intercept interviews with tweens, parents, other teen influencers and adult influencers nationally and in specified cities.

As planned, the marketing efforts have been implemented in selected cities; the campaign planners also want to continue to evaluate which strategies are most effective in which locals.

Continuous tracking of awareness of the brand and the advertising messages are standard tools in advertising and marketing. The commitment of resources to the campaign's marketing efforts mandates that campaign planners be able to respond quickly to changes needed in message execution or delivery as is standard practice in the advertising industry. There is no cost to respondents.

Respondents | Number of respondents | Number of responses/ respondent | Average burden/ response | Total burden
Tweens (ages 9-13) | 20,000 | 1 | 15/60 | 5,000
Parents | 10,000 | 1 | 15/60 | 2,500
Total |  |  |  | 7,500

Dated: September 19, 2003.
Thomas A. Bartenfeld,
Acting Associate Director for Policy, Planning and Evaluation, Centers for Disease Control and Prevention.

[FR Doc. 03-24274 Filed 9-24-03; 8:45 am]

BILLING CODE 4163-18-P